DEPARTMENT OF AGRICULTURE

Food and Nutrition Service

7 CFR Part 246

[FNS-2009-0001]

RIN 0584-AD71

Special Supplemental Nutrition Program for Women, Infants and Children (WIC): Vendor Cost Containment; Approval of Information Collection Request

AGENCY: Food and Nutrition Service, USDA.

ACTION: Final rule; notice of approval of Information Collection Request (ICR).

SUMMARY: The final rule entitled Special Supplemental Nutrition Program for Women, Infants and Children (WIC): Vendor Cost Containment was published on October 8, 2009. The Office of Management and Budget cleared the associated information collection requirements (ICR) on November 2, 2009. This document announces approval of the ICR.

DATES: The ICR associated with the final rule published in the Federal Register on October 8, 2009, at 74 FR 51745, was approved by OMB on November 2, 2009, under OMB Control Number 0584-0043.

FOR FURTHER INFORMATION CONTACT: Sandra Clark, Chief, Policy and Program Development Branch, Supplemental Food Programs Division, Food and Nutrition Service, USDA, 3101 Park Center Drive, Room 528, Alexandria, Virginia 22302, (703) 305-2746, or Sandy.Clark@fns.usda.gov.

Dated: December 3, 2009.
Julia Paradis,
Administrator, Food and Nutrition Service.

[FR Doc. E9-30345 Filed 12-21-09; 8:45 am]

BILLING CODE 3410-30-P